DEPARTMENT OF COMMERCE

International Trade Administration

[A-552-801]

Certain Frozen Fish Fillets From the Socialist Republic of Vietnam: Preliminary Results of the Antidumping Duty Administrative Review, Preliminary Determination of No Shipments and Partial Rescission of the Antidumping Duty Administrative Review; 2016-2017

AGENCY: Enforcement and Compliance, International Trade Administration, Department of Commerce

SUMMARY: The Department of Commerce (Commerce) preliminarily determines that certain frozen fish fillets from the Socialist Republic of Vietnam (Vietnam) are being, or are likely to be, sold in the United States at less than normal value (NV) during the period of review (POR), August 1, 2016, through July 31, 2017.

DATES: Applicable September 13, 2018.

FOR FURTHER INFORMATION CONTACT: Javier Barrientos, AD/CVD Operations, Office V, Enforcement and Compliance, International Trade Administration, U.S. Department of Commerce, 1401 Constitution Avenue NW, Washington DC 20230; telephone: (202) 482-2243.

SUPPLEMENTARY INFORMATION:

Background

On October 16, 2017, Commerce published in the Federal Register the notice of initiation of an administrative review of the antidumping duty (AD) order on frozen fish fillets from Vietnam.¹ Commerce initiated a review with respect to 74 companies,² and selected two of these companies, Hung Vuong Group (HVG) and NTSF Seafoods Joint Stock Company (NTSF), as mandatory respondents.³ On March 22, 2018, Commerce partially extended the deadline for issuing the preliminary results.⁴ On June 14, 2018, Commerce fully extended the preliminary results of review to September 4, 2018.⁵

¹ See Initiation of Antidumping and Countervailing Duty Administrative Reviews, 82 FR 48051 (October 16, 2017) (Initiation Notice); see also Appendix I therein for the complete list of all companies upon which Commerce initiated an administrative review.

² Id.

³ See Commerce Memorandums dated January 5, 2018 (HVG), and February 7, 2018 (NTSF).

⁴ See Commerce Memorandum dated June 14, 2018.

⁵ See Commerce Memorandum dated March 22, 2018.

Scope of the Order

The product covered by this review is certain frozen fish fillets from the Socialist Republic of Vietnam. For a full description of the scope see the Preliminary Decision Memorandum dated concurrently with and hereby adopted by this notice.⁶

⁶ See Commerce Memorandum, “Decision Memorandum for the Preliminary Results of the 2016-2017 Antidumping Duty Administrative Review: Certain Frozen Fish Fillets from the Socialist Republic of Vietnam,” dated concurrently with this notice (Preliminary Decision Memorandum).

Partial Rescission of Administrative Review

Pursuant to 19 CFR 351.213(d)(1), Commerce will rescind an administrative review, in whole or in part, if the parties that requested a review withdraw the request within 90 days of the date of publication of the notice of initiation. Between December 26, 2017 and January 12, 2018, we received timely withdrawal of review requests for 47 companies from the petitioners and self-requested companies. Of these 47 companies, 34 do not have any other outstanding review requests. Therefore, in accordance with 19 CFR 351.213(d)(1), Commerce is rescinding this review of the AD order on certain frozen fish fillets from Vietnam with respect to these 34 companies.⁷ The review will continue with respect to the other firms for which a review was requested and initiated.

⁷ See Appendix II for a full list of rescinded companies.

Preliminary Determination of No Shipments

Based on the no-shipments letters filed by three companies, Commerce preliminarily determines that these companies had no shipments during the POR. For additional information regarding this determination, including a list of these companies, see the Preliminary Decision Memorandum. Consistent with our assessment practice in non-market economy (NME) administrative reviews, Commerce is not rescinding this review for these companies, but intends to complete the review and issue appropriate instructions to CBP based on the final results of the review.⁸

⁸ See Non-Market Economy Antidumping Proceedings: Assessment of Antidumping Duties, 76 FR 65694, 65694-95 (October 24, 2011) and the “Assessment Rates” section, below.

Separate Rates

Commerce preliminarily determines that information placed on the record by the mandatory respondents HVG and NTSF, as well as by the four other separate rate applicants, demonstrates that these companies are entitled to separate rate status. See Preliminary Results of Review section below. For additional information, see the Preliminary Decision Memorandum.

Vietnam-Wide Entity

Commerce's policy regarding conditional review of the Vietnam-wide entity applies to this administrative review.⁹ Under this policy, the Vietnam-wide entity will not be under review unless a party specifically requests, or Commerce self-initiates, a review of the entity. Because no party requested a review of the Vietnam-wide entity in this review, the entity is not under review and the weighted-average dumping margin determined for the Vietnam-wide entity is not subject to change (i.e., $2.39 per kilogram) as a result of this review.¹⁰ Aside from the companies discussed above, Commerce considers all other companies for which a review was requested to be part of the Vietnam-wide entity. For additional information, see the Preliminary Decision Memorandum.

⁹ See Antidumping Proceedings: Announcement of Change in Department Practice for Respondent Selection in Antidumping Duty Proceedings and Conditional Review of the Nonmarket Economy Entity in NME Antidumping Duty Proceedings, 78 FR 65963 (November 4, 2013).

¹⁰ Id.

Methodology

Commerce is conducting this review in accordance with sections 751(a)(1)(B) and 751(a)(2)(A) of the Act. Constructed export prices and export prices have been calculated in accordance with section 772 of the Act. Because Vietnam is an NME country within the meaning of section 771(18) of the Act, normal value (NV) has been calculated in accordance with section 773(c) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and is available to all parties in the Central Records Unit, Room B8024 of the main Department of Commerce building. In addition, a complete version of the Preliminary Decision Memorandum can be accessed directly on the internet at http://enforcement.trade.gov/frn/. The signed Preliminary Decision Memorandum and the electronic versions of the Preliminary Decision Memorandum are identical in content.

Preliminary Results of Review

Commerce preliminarily determines that the following weighted-average dumping margins exist for the period August 1, 2016, through July 31, 2017:

Exporter/producer | Weighted- average dumping margin and cash deposit rate (dollars per kilogram)
Hung Vuong Group | 0.00
NTSF Seafoods Joint Stock Company | 1.37
C.P. Vietnam Corporation | 0.41
Cuu Long Fish Joint Stock Company | 0.41
Green Farms Seafood Joint Stock Company | 0.41
Vinh Quang Fisheries Corporation | 0.41

Disclosure

Commerce intends to disclose to interested parties the calculations performed in connection with these preliminary results within five days of its public announcement or, if there is no public announcement, within five days of the date of publication of this notice in accordance with 19 CFR 351.224(b).

Public Comment

Case briefs or other written comments may be submitted to the Assistant Secretary for Enforcement and Compliance no later than 30 days after the date of publication of these preliminary results, unless the Secretary alters the time limit. Rebuttal briefs, limited to issues raised in case briefs, may be submitted no later than five days after the deadline date for case briefs.¹¹ Pursuant to 19 CFR 351.309(c)(2) and (d)(2), parties who submit case briefs or rebuttal briefs in this administrative review are encouraged to submit with each argument: (1) A statement of the issue; (2) a brief summary of the argument; and (3) a table of authorities.

¹¹ See 19 CFR 351.309; see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC 20230, at a time and date to be determined. Parties should confirm by telephone the date, time, and location of the hearing two days before the scheduled date.

Commerce intends to issue the final results of this administrative review, which will include the results of our analysis of all issues raised in the case briefs, within 120 days of publication of these preliminary results in the Federal Register, pursuant to section 751(a)(3)(A) of the Act, unless extended.

Assessment Rates

For those companies for which Commerce is rescinding this review, Commerce will instruct U.S. Customs and Border Protection (CBP) to assess antidumping duties on all appropriate entries, consistent with 19 CFR 351.212(b)(1).¹² For these companies, antidumping duties shall be assessed at rates equal to the cash deposit of estimated antidumping duties required at the time of entry, or withdrawal from warehouse, for consumption, during the period August 1, 2016, through July 31, 2017, in accordance with 19 CFR 351.212(c)(1)(i). The Department intends to issue appropriate assessment instruction to CBP 15 days after publication of this notice.

¹² See Appendix II.

Upon issuance of the final results, Commerce will determine, and CBP shall assess, antidumping duties on all appropriate entries covered by this review.¹³ Commerce intends to issue assessment instructions to CBP 15 days after the publication date of the final results of this review.

¹³ See 19 CFR 351.212(b).

For any individually examined respondent whose weighted average dumping margin is not zero or de minimis (i.e., less than 0.50 percent) in the final results of this review, Commerce will calculate importer-specific assessment rates on the basis of the ratio of the total amount of dumping calculated for the importer's examined sales to the total entered value of those sales, in accordance with 19 CFR 351.212(b)(1). Where an importer-specific ad valorem rate is not zero or de minimis, Commerce will instruct CBP to collect the appropriate duties at the time of liquidation.¹⁴ Where either a respondent's weighted-average dumping margin is zero or de minimis, or an importer-specific ad valorem assessment rate is zero or de minimis, Commerce will instruct CBP to liquidate appropriate entries without regard to antidumping duties.¹⁵

¹⁴ See 19 CFR 351.212(b)(1).

¹⁵ See 19 CFR 351.106(c)(2).

Cash Deposit Requirements

The following cash deposit requirements will be effective upon publication of the final results of this review for shipments of the subject merchandise from Vietnam entered, or withdrawn from warehouse, for consumption on or after the publication date, as provided by sections 751(a)(2)(C) of the Act: (1) For the companies listed above that have a separate rate, the cash deposit rate will be equal to the weighted-average dumping margin established in the final results of this review (except, if the rate is de minimis, then cash deposit rate will be zero); (2) for previously examined Vietnamese and non-Vietnamese exporters not listed above that at the time of entry are eligible for a separate rate based on a prior completed segment of this proceeding, the cash deposit rate will continue to be the existing exporter-specific cash deposit rate; (3) for all Vietnam exporters of subject merchandise that have not been found to be entitled to a separate rate at the time of entry, the cash deposit rate will be that for the Vietnam-wide entity (i.e., $2.39 per kilogram); and (4) for all non-Vietnamese exporters of subject merchandise which at the time of entry are not eligible for a separate rate, the cash deposit rate will be the rate applicable to the Vietnam exporter that supplied that non-Vietnam exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification to Interested Parties

This preliminary determination is issued and published in accordance with sections 751(a)(1) and 777(i)(1) of the Act.

Dated: September 4, 2018.
Gary Taverman,
Deputy Assistant Secretary for Antidumping and Countervailing Duty Operations, performing the non-exclusive functions and duties of the Assistant Secretary for Enforcement and Compliance.

Appendix I

List of Topics Discussed in the Preliminary Decision Memorandum

1. Summary

2. Case History

3. Scope of the Order

4. Affiliations

5. Partial Rescission

6. Selection of the Respondents

7. Preliminary Determination of No Shipments

8. Non-Market Economy Country Status

9. Separate Rates

10. Vietnam-Wide Entity

11. Surrogate Country

12. Date of Sale

13. Normal Value Comparisons

14. Comparisons to Normal Value

15. Results of the Differential Pricing Analysis

16. Currency Conversion

17. Recommendation

Appendix II

(1) An Giang Agriculture and Foods Import-Export Joint Stock Company (also known as Afiex, An Giang Agriculture and Foods Import-Export Joint Stock Company, An Giang Agriculture and Food Import-Export Company, or An Giang Agriculture and Foods Import and Export Company)

(2) An My Fish Joint Stock Company (also known as Anmyfish or Anmyfishco)

(3) An Phat Import-Export Seafood Co. Ltd. (also known as An Phat Seafood Co. Ltd.)

(4) An Phu Seafood Corporation (also known as ASEAFOOD or An Phu Seafood Corp.)

(5) Anvifish Joint Stock Company (also known as Anvifish or Anvifish Co., Ltd.)

(6) Asia Commerce Fisheries Joint Stock Company (also known as Acomfish JSC or Acomfish)

(7) Basa Joint Stock Company (BASACO)

(8) Ben Tre Aquaproduct Import and Export Joint Stock Company (also known as Bentre Aquaproduct or Aquatex Bentre)

(9) Bentre Forestry and Aquaproduct Import-Export Joint Stock Company (also known as Bentre Forestry and Aquaproduct Import and Export Joint Stock Company or Ben Tre Forestry and Aquaproduct Import-Export Company or Ben Tre Forestry Aquaproduct Import-Export Company or Ben Tre Frozen Aquaproduct Export Company or Faquimex)

(10) Bien Dong Seafood Company Ltd. (also known as Bien Dong, Bien Dong Seafood, Bien Dong Seafood Co., Ltd., or Biendong Seafood Limited Liabilty Company)

(11) Binh An Seafood Joint Stock Company (also known as Binh An or Binh An Seafood Joint Stock Co.) Binh Dinh Import Export Company (also known as Binh Dinh)

(12) Cafatex Corporation (also known as Cafatex)

(13) Can Tho Animal Fishery Products Processing Export Enterprise (also known as Cafatex)

(14) Cuu Long Fish Import-Export Corporation (also known as CL Panga Fish)

(15) Da Nang Seaproducts Import-Export Corporation (also known as Da Nang or Da Nang Seaproducts Import/Export Corp.)

(16) Dai Thanh Seafoods Company Limited (also known as DATHACO or Dai Thanh Seafoods or Dai Thanh Seafoods Co., Ltd.)

(17) East Sea Seafoods LLC (also known as ESS LLC, ESS, ESS JVC, East Sea Seafoods Limited Liabiltiy Company, East Sea Seafoods Joint Venture Co., Ltd.)

(18) Fatifish Company Limited (also known as FATIFISH or FATIFISHCO)

(19) Go Dang An Hiep One Member Limited Company

(20) Go Dang Ben Tre One Member Limited Liability Company

(21) Hai Huong Seafood Joint Stock Company (also known as HHFish, HH Fish, or Hai Houng Seafood)

(22) Hiep Thanh Seafood Joint Stock Company (also known as Hiep Thanh or Hiep Thanh Seafood Joint Stock Co.)

(23) Hoa Phat Seafood Import-Export and Processing J.S.C. (also known as HOPAFISH or Hoa Phat Seafood Import-Export and Processing Joint Stock Company)

(24) Hung Vuong—Mien Tay Aquaculture Corporation

(25) Hung Vuong Seafood Joint Stock Company

(26) International Development & Investment Corporation (also known as IDI)

(27) Lian Heng Investment Co., Ltd. (also known as Lien Heng Investment or Lian Heng)

(28) Lian Heng Trading Co., Ltd. (also known as Lian Heng or Lian Heng Trading)

(29) Nam Phuong Seafood Co., Ltd. (also known as Nam Phuong or NAFISHCO or Nam Phuong Seafood or Nam PhuongSeafood Company Ltd.)

(30) Nam Viet Corporation (also known as NAVICO)

(31) Ngoc Ha Co., Ltd. Food Processing and Trading (also known as Ngoc Ha or Ngoc Ha Co., Ltd. Foods Processing and Trading)

(32) Nha Trang Seafoods, Inc. (also known as Nha Trang Seafoods-F89, Nha Trang Seafoods, or Nha Trang Seaproduct Company)

(33) NTACO Corporation (also known as NTACO or NTACO Corp.)

(34) Quang Minh Seafood Company Limited (also known as Quang Minh, Quang Minh Seafood Co., Ltd., or Quang Minh Seafood Co.)

(35) QVD Dong Thap Food Co., Ltd. (also known as Dong Thap or QVD DT)

(36) QVD Food Company, Ltd. (also known as QVD or QVD Aqucuture)

(37) Saigon-Mekong Fishery Co., Ltd. (also known as SAMEFICO or Saigon Mekong Fishery Co., Ltd.)

(38) Seafood Joint Stock Company No. 4 Branch Dongtam Fisheries Processing Company (also known as DOTASEAFOODCO or Seafood Joint Stock Company No. 4-Branch Dong Tam Fisheries Processing Company)

(39) Southern Fishery Industries Company, Ltd. (also known as South Vina, South Vina Co., Ltd., or Southern Fisheries Industries Company, Ltd.)

(40) Sunrise Corporation.

(41) TG Fishery Holdings Corporation (also known as TG)

(42) Thanh Hung Co., Ltd. (also known as Thanh Hung Frozen Seafood Processing Import Export Co., Ltd. or Thanh Hung)

(43) Thien Ma Seafood Co., Ltd. (also known as THIMACO or Thien Ma or Thien Ma Seafood Company, Ltd. or Thien Ma Seafoods Co., Ltd.)

(44) Thuan An Production Trading and Service Co., Ltd. (also known as TAFISHCO, Thuan An Production Trading and Services Co., Ltd., or Thuan An Production & Trading Service Co., Ltd.)

(45) Thuan Hung Co., Ltd. (also known as THUFICO)

(46) To Chau Joint Stock Company (also known as TOCHAU)

(47) Van Duc Food Export Joint Stock Company

(48) Van Duc Tien Giang Food Export Company

(49) Viet Hai Seafood Company Limited (also known as Viet Hai or Vietnam Fish-One Co., Ltd. or Viet Hai Seafood Co. or Fish One)

(50) Viet Phu Foods and Fish Corporation (also known as Vietphu, Viet Phu, Viet Phu Food and Fish Corporation, or Viet Phu Food & Fish Corporation)

(51) Viet Phu Foods & Fish Co., Ltd.

(52) Vinh Hoan Corporation (also known as Vinh Hoan or Ving Hoan Co.)

(53) Vinh Long Import-Export Company (also known as Vinh Long or Imex Cuu Long or Vinh Long Import/Export Company)

[FR Doc. 2018-19931 Filed 9-12-18; 8:45 am]

BILLING CODE 3510-DS-P